DEPARTMENT OF ENERGY

Federal Energy Regulatory Commission

[Docket No. CP12-11-001]

Elba Express Company, L.L.C.; Notice of Amendment to Petition To Amend Order Issuing Certificate

Take notice that on May 3, 2012, Elba Express Company, L.L.C. (Elba Express), located at 569 Brookwood Village, Suite 501, Birmingham, Alabama 35209, filed an Amendment to its Petition To Amend Order Issuing Certificate (Amendment to Petition To Amend) in the above referenced docket pursuant to section 385.207 and 385.2001 of the Commission's regulations under the Natural Gas Act (NGA) to amend their certificate issued in Docket No. CP06-471-000. Elba Express filed a Petition To Amend Order Issuing Certificate on October 31, 2011 (Petition To Amend) in Docket No. CP12-11-000, requesting authorization to change the location of the Phase B Compression from Jenkins County, Georgia to Elbert County, Georgia. As noticed herein, this amendment requests the Commission consider a site in Hart County, Georgia, as the preferred site for the Phase B Compression. Elba Express notes that the horsepower and incremental capacity will remain the same as that requested in the Petition To Amend, all as more fully set forth in the application which is on file with the Commission and open to public inspection. The filing is available for review at the Commission in the Public Reference Room or may be viewed on the Commission's Web site Web at http://www.ferc.gov using the “eLibrary” link. Enter the docket number excluding the last three digits in the docket number field to access the document. For assistance, contact FERC at FERCOnlineSupport@ferc.gov or call toll-free, (886) 208-3676 or TYY, (202) 502-8659.

Any questions concerning this application may be directed to Pamela R. Donaldson, Principal Regulatory Analyst, Elba Express Company, L.L.C., 569 Brookwood Village, Suite 501, Birmingham, Alabama 35209, by telephone at (205) 325-3739 or by email at pam.donaldson@elpaso.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and seven copies of the protest or intervention to the Federal Energy regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: May 31, 2012.

Dated: May 10, 2012.
Kimberly D. Bose,
Secretary.

[FR Doc. 2012-11832 Filed 5-15-12; 8:45 am]

BILLING CODE 6717-01-P